SUSQUEHANNA RIVER BASIN COMMISSION

Commission Meeting

AGENCY: Susquehanna River Basin Commission.

ACTION: Notice.

SUMMARY: The Susquehanna River Basin Commission will hold its regular business meeting on June 5, 2014, in Entriken, Pennsylvania. Details concerning the matters to be addressed at the business meeting are contained in the Supplementary Information section of this notice.

DATES: June 5, 2014, at 9:00 a.m.

ADDRESSES: Lake Raystown Resort, Lodge & Conference Center, River Birch Ballroom, 3101 Chipmunk Crossing, Entriken, PA 16638.

FOR FURTHER INFORMATION CONTACT: Richard A. Cairo, General Counsel, telephone: (717) 238-0423, ext. 1306; fax: (717) 238-2436.

SUPPLEMENTARY INFORMATION: The business meeting will include actions or presentations on the following items: (1) Informational presentation on the Raystown Lake project; (2) election of officers for FY-2015; (3) settlement agreement pertaining to Federal Energy Regulatory Commission (FERC) licensing of hydroelectric dams; (4) the proposed Water Resources Program for fiscal years 2015 and 2016; (5) an American Eel Restoration Plan; (6) amending the Comprehensive Plan for the Water Resources of the Susquehanna River Basin; (7) amending the Commission's Records Processing Fee Schedule; (8) amending the Commission's Regulatory Program Fee Schedule; (9) adoption of a FY-2016 budget; (10) ratification/approval of contracts/grants; (11) regulatory compliance matters for Somerset Regional Water Resources, LLC; Susquehanna Gas Field Services LLC; and Tioga Downs Racetrack, LLC; and (12) Regulatory Program projects. Projects, proposed amendments to fee schedules, and amendments to the comprehensive plan listed for Commission action are those that were the subject of a public hearing conducted by the Commission on May 8, 2014, and identified in the notice for such hearing, which was published in 79 FR 20961, April 14, 2014.

Opportunity to Appear and Comment:

Interested parties are invited to attend the business meeting and encouraged to review the Commission's Public Meeting Rules of Conduct, which are posted on the Commission's Web site, www.srbc.net. As identified in the public hearing notice referenced above, written comments on the Regulatory Program projects, proposed amendments to fee schedules, and amendments to the Comprehensive Plan that were the subject of the public hearing, and are listed for action at the business meeting, are subject to a comment deadline of May 19, 2014.Written comments pertaining to any other matters listed for action at the business meeting may be mailed to the Susquehanna River Basin Commission, 4423 North Front Street Harrisburg, Pennsylvania 17110-1788, or submitted electronically through http://www.srbc.net/pubinfo/publicparticipation.htm. Any such comments mailed or electronically submitted must be received by the Commission on or before May 30, 2014, to be considered.

Authority: Pub. L. 91-575, 84 Stat. 1509 et seq., 18 CFR Parts 806, 807, and 808.

Dated: May 2, 2014.
Stephanie L. Richardson,
Secretary to the Commission.

[FR Doc. 2014-10565 Filed 5-7-14; 8:45 am]

BILLING CODE 7040-01-P